FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10021 | Franklin Bank, SSB | Houston | TX | 10/01/2023
10025 | First Georgia Community Bank | Jackson | GA | 10/01/2023
10027 | Haven Trust Bank | Duluth | GA | 10/01/2023
10050 | New Frontier Bank | Greeley | CO | 10/01/2023
10102 | Union Bank, NA | Gilbert | AZ | 10/01/2023
10329 | Enterprise Banking Company | McDonough | GA | 10/01/2023
10378 | One Georgia Bank | Atlanta | GA | 10/01/2023
10427 | Home Savings of America | Little Falls | MN | 10/01/2023
10428 | Global Commerce Bank | Doraville | GA | 10/01/2023

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819)

Federal Deposit Insurance Corporation.
Dated at Washington, DC, on October 3, 2023.
Debra A. Decker,
Executive Secretary.

[FR Doc. 2023-22296 Filed 10-5-23; 8:45 am]

BILLING CODE 6714-01-P